DEPARTMENT OF TRANSPORTATION

Federal Aviation Administration

14 CFR Part 39

[Docket No. FAA-2005-20079; Directorate Identifier 2004-NM-147-AD; Amendment 39-14163; AD 2005-13-26]

RIN 2120-AA64

Airworthiness Directives; Airbus Model A300 B2 and B4 Series Airplanes; Model A300 B4-600, B4-600R, and F4-600R Series Airplanes, and Model C4-605R Variant F Airplanes (Collectively Called A300-600 Series Airplanes); and Model A310-200 and -300 Series Airplanes

AGENCY: Federal Aviation Administration (FAA), Department of Transportation (DOT).

ACTION: Final rule.

SUMMARY: The FAA is adopting a new airworthiness directive (AD) for certain Airbus models, as specified above. This AD requires installing safety signs on all passenger/crew doors, emergency exit doors, and cargo compartment doors. This AD is prompted by a report of injuries occurring on in-service airplanes when crewmembers forcibly initiated opening of passenger/crew doors against residual pressure causing the doors to rapidly open. We are issuing this AD to ensure that crewmembers are informed of the risks associated with forcibly opening passenger/crew, emergency exit, and cargo doors before an airplane is fully depressurized, which will prevent injury to crewmembers, and subsequent damage to the airplane caused by the rapid opening of the door.

DATES: This AD becomes effective August 1, 2005.

The incorporation by reference of certain publications listed in the AD is approved by the Director of the Federal Register as of August 1, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20079; the directorate identifier for this docket is 2004-NM-147-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The FAA proposed to amend 14 CFR part 39 with an AD for certain Airbus Model A300 B2 and B4 series airplanes; Model A300 B4-600, B4-600R, and F4-600R series airplanes, and Model C4-605R Variant F airplanes (collectively called A300-600 series airplanes); and Model A310-200 and -300 series airplanes. That action, published in the Federal Register on January 19, 2005 (70 FR 2985), proposed to require installing safety signs on all passenger/crew doors, emergency exit doors, and cargo compartment doors.

Comments

We provided the public the opportunity to participate in the development of this AD. We have considered the comments that have been submitted on the proposed AD.

Request To Revise Paragraph (h), Credit for Previous Service Bulletins

One commenter notes that in paragraph (h) of the proposed AD, Airbus Service Bulletin A310-11-2002 is incorrectly referred to as Service Bulletin A300-11-2002. We infer that the commenter is requesting that we correct the typographical error. The commenter also notes a difference between the French airworthiness directive and the proposed AD, which could lead to requests for alternative methods of compliance from operators. The commenter points out that the proposed AD specifies the use of Service Bulletin A310-11-2002, Revision 03, dated February 4, 2004, and that actions accomplished before the effective date of the AD, in accordance with Revision 2, dated January 27, 1995, are acceptable for compliance with the actions specified in paragraph (g) of the proposed AD. The French airworthiness directive references Service Bulletin A310-11-2002, or any later approved revision. The commenter recommends that the original issue and Revision 1 of Service Bulletin A310-11-2002 be included in paragraph (h), “Credit for Previous Service Bulletins,” of the proposed AD.

We agree with the commenter's requests and have revised paragraph (h) of this AD to correct the typographical error and to reference the original issue and Revision 1 of Airbus Service Bulletin A310-11-2002.

Request To Limit Placard Installation and Airplane Applicability

Another commenter suggests that the installation of safety signs be limited to the main/crew door only, and that airplanes used only for cargo operations be exempted from the requirements of the proposed AD. The commenter points out that normal operation of the cargo doors is restricted to trained crewmembers and maintenance personnel, and the existing warning signs and crew procedural items have proven effective in its cargo operations. The commenter states that a history of flightcrews improperly opening crew doors does not seem to justify installing additional placards on all cargo doors.

We do not agree with the commenter's requests. Although the reported accidents occurred when crewmembers forcibly opened passenger/crew doors, the Direction Générale de l'Aviation Civile (DGAC) has notified us that the same unsafe condition also may exist on emergency exit and cargo doors. We have examined the DGAC findings, evaluated all pertinent information, and determined that we need to issue an AD parallel to French airworthiness directive F-2004-003, dated January 7, 2004. We point out that we did not receive similar comments from other cargo carriers, or any data substantiating that the commenter's request would ensure continued operational safety of the affected fleet. However, we will consider alternative methods of compliance in accordance with paragraph (i) of this AD.

Explanation of Change to Applicability

We have revised the applicability of this AD to identify model designations as published in the most recent type certificate data sheet for the affected models.

Conclusion

We have carefully reviewed the available data, including the comments that have been submitted, and determined that air safety and the public interest require adopting the AD with the changes described previously. We have determined that these changes will neither increase the economic burden on any operator nor increase the scope of the AD.

Costs of Compliance

This AD affects about 182 airplanes of U.S. registry. The required actions take about 5 work hours per airplane, at an average labor rate of $65 per work hour. Required parts will be provided at no charge. Based on these figures, the estimated cost of the AD for U.S. operators is $59,150, or $325 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-13-26 Airbus: Amendment 39-14163. Docket No. FAA-2005-20079.; Directorate Identifier 2004-NM-147-AD.

Effective Date

(a) This AD becomes effective August 1, 2005.

Affected ADs

(b) None.

Applicability

(c) This AD applies to Airbus Model A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; Model A300 C4-605R Variant F airplanes; Model A310-203, -204, -221, and -222 airplanes; and Model A310-304, -322, -324, and -325 airplanes; certificated in any category; except those modified in production by either Airbus Modifications 10152 and 10219, or Modifications 8357 and 10151.

Unsafe Condition

(d) This AD was prompted by reports of injuries occurring on in-service airplanes when crewmembers forcibly initiated opening of passenger/crew doors against residual pressure causing the doors to rapidly open. We are issuing this AD to ensure that crewmembers are informed of the risks associated with forcibly opening passenger/crew, emergency exit, and cargo doors before an airplane is fully depressurized, which will prevent injury to crewmembers, and subsequent damage to the airplane caused by the rapid opening of the door.

Compliance

(e) You are responsible for having the actions required by this AD performed within the compliance times specified, unless the actions have already been done.

Service Bulletin References

(f) The term “service bulletin,” as used in this AD, means the Accomplishment Instructions of the following service bulletins, as applicable:

(1) For Model A300 B2-1A, B2-1C, B2K-3C, and B2-203 airplanes and Model A300 B4-2C, B4-103, and B4-203 airplanes: Airbus Service Bulletin A300-11-0027, Revision 01, dated January 30, 2004;

(2) For Model A300 B4-601, B4-603, B4-620, and B4-622 airplanes; Model A300 B4-605R and B4-622R airplanes; Model A300 F4-605R and F4-622R airplanes; and Model A300 C4-605R Variant F airplanes: Airbus Service Bulletin A300-11-6001, Revision 01, dated January 30, 2004; and

(3) For Model A310-203, -204, -221, and -222 airplanes and Model A310-304, -322, -324, and -325 airplanes: Airbus Service Bulletin A310-11-2002, Revision 03, dated February 4, 2004.

Install Safety Signs

(g) Within 36 months after the effective date of this AD, install safety signs on the inside and outside of the passenger/crew doors and emergency exit doors, and on the outside of the cargo compartment doors, in accordance with the applicable service bulletin.

Credit for Previous Service Bulletins

(h) Actions done before the effective date of this AD in accordance with Airbus Service Bulletin A300-11-0027, dated October 27, 1993; Airbus Service Bulletin A300-11-6001, dated October 27, 1993; Airbus Service Bulletin A310-11-2002, dated October 27, 1993; Airbus Service Bulletin A310-11-2002, Revision 1, dated September 28, 1994; or Airbus Service Bulletin A310-11-2002, Revision 2, dated January 27, 1995; as applicable; are acceptable for compliance with the requirements of paragraph (g) of this AD.

Alternative Methods of Compliance (AMOCs)

(i) The Manager, International Branch, ANM-116, Transport Airplane Directorate, FAA, has the authority to approve AMOCs for this AD, if requested in accordance with the procedures found in 14 CFR 39.19.

Related Information

(j) French airworthiness directive F-2004-003, dated January 7, 2004, also addresses the subject of this AD.

Material Incorporated by Reference

(k) You must use the applicable service information specified in Table 1 of this AD to perform the actions that are required by this AD, unless the AD specifies otherwise. The Director of the Federal Register approves the incorporation by reference of those documents in accordance with 5 U.S.C. 552(a) and 1 CFR part 51. To get copies of the service information, go to Airbus, 1 Rond Point Maurice Bellonte, 31707 Blagnac Cedex, France. To view the AD docket, go to the Docket Management Facility, U.S. Department of Transportation, 400 Seventh Street SW., room PL-401, Nassif Building, Washington, DC. To review copies of the service information, go the National Archives and Records Administration (NARA). For information on the availability of this material at the NARA, call (202) 741-6030, or go to http://www.archives.gov/federal_register/code_of_federal_regulations/ibr_locations.html.

Table 1.—Material Incorporated by Reference
Airbus Service Bulletin | Revision level | Date
A300-11-0027 | 01 | Jan. 30, 2004.
A300-11-6001 | 01 | Jan. 30, 2004.
A310-11-2002 | 03 | Feb. 4, 2004.

Issued in Renton, Washington, on June 15, 2005.
Michael J. Kaszycki,
Acting Manager, Transport Airplane Directorate, Aircraft Certification Service.

[FR Doc. 05-12512 Filed 6-24-05; 8:45 am]

BILLING CODE 4910-13-P